DEPARTMENT OF HEALTH AND HUMAN SERVICES

Health Resources and Services Administration

Determining Mental Health Professional Shortage Areas of Greatest Need; Correction

AGENCY: Health Resources and Services Administration, HHS.

ACTION: Notice; correction.

SUMMARY: In accordance with the requirements of section 333A(b)(1) of the Public Health Service (PHS) Act, as amended by the Health Care Safety Net Amendments of 2002, 42 U.S.C. 254f-1(b)(1), the Secretary of HHS shall establish the criteria which she will use to make determinations under section 333A(a)(1)(A) of the Health Professional Shortage Areas (HPSAs) with the greatest shortages. The Health Resources and Services Administration published a notice in the Federal Register, FR 2015-00398 (January 14, 2015), which sets forth revised criteria for determining mental health HPSAs with the greatest shortage.

FOR FURTHER INFORMATION CONTACT: Kae Brickerd, Chief, Shortage Designation Branch, Bureau of Health Workforce, Division of Policy and Shortage Designation, Health Resources and Services Administration, 11W14 Parklawn Building, 5600 Fishers Lane, Rockville, MD 20857, 301 945-0828, kbrickerd@hrsa.gov.

Correction:

In the Federal Register, FR 2015-00398 (January 14, 2015), please make the following corrections:

In the section For Geographic High Need and Population HPSAs, the table for Core Mental Health (Geographic High Need and Population), should read as follows below.

Core Mental Health (Geographic High Need and Population)
Ratio | Score
≥6K and <7.5K:1 | 1
≥7.5K and <9K:1 | 2
≥9Kand <12K:1 | 3
≥12K and <15K:1 | 4
≥15K and <18K:1 | 5
≥18K and <24K:1 | 6
≥24K:1 | 7

Dated: July 1, 2015.
James Macrae,
Acting Administrator.

[FR Doc. 2015-16964 Filed 7-9-15; 8:45 am]

BILLING CODE 4165-15-P